DEPARTMENT OF TRANSPORTATION

Federal Aviation Administration

14 CFR Part 71

[Airspace Docket No. 00-ACE-25]

Establishment of Class D and Class E Airspace, and Amendment to Class E Airspace; Garden City, KS

AGENCY: Federal Aviation Administration (FAA), DOT.

ACTION: Notice of proposed rulemaking.

SUMMARY: This notice proposes to establish Class D airspace area, a Class E surface area extension and amend the Class E surface area from full time to part time status at Garden City Regional Airport, Garden City, KS. An Air Traffic Control Tower (ATCT) is being established at Garden City Regional Airport and surface areas are necessary to provide controlled airspace for the safe and efficient operation of aircraft operating into and out of the Garden City Regional Airport. This proposal would create controlled surface areas at Garden City Regional Airport. The intended effect of this rule is to provide Class D airspace area, a Class E surface area extension, and amend Class E surface area from full time to part time status.

DATES: Comments must be received on or before September 29, 2000.

ADDRESSES: Send comments on the proposal in triplicate to: Manager, Airspace Branch, Air Traffic Division, ACE-520, DOT Regional Headquarters Building, Federal Aviation Administration, Docket Number 00-ACE-25, 901 Locust, Kansas City, MO 64106.

The official docket may be examined in the Office of the Regional Counsel for the Central Region at the same address between 9 a.m. and 3 p.m., Monday through Friday, except Federal holidays.

An informal docket may also be examined during normal business hours in the office of the Manager, Airspace Branch, Air Traffic Division, at the address listed above.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, economic, environmental, and energy-related aspects of the proposal. Communications should identify the airspace docket number and be submitted in triplicate to the address listed above. Commenters wishing the FAA to acknowledge receipt of their comments on this notice must submit with those comments a self-addressed, stamped postcard on which the following statement is made: “Comments to Airspace Docket No. 00-ACE-25.” The postcard will be date/time stamped and returned to the commenter. All communications received on or before the closing date for comments will be considered before taking action on the proposed rule. The proposal contained in this notice may be changed in light of comments received. All comments submitted will be available for examination in the Rules Docket both before and after the closing date for comments. A report summarizing each substantive public contact with FAA personnel concerned with this rulemaking will be filed in the docket.

Availability of NPRMs

Any person may obtain a copy of this Notice of Proposed Rulemaking (NPRM) by submitting a request to the Federal Aviation Administration, Office of Public Affairs, Attention: Public Inquiry Center, APA-230, 800 Independence Avenue, SW, Washington, DC 20591, or by calling (202) 267-3484. Communications must identify the notice number of this NPRM. Persons interested in being placed on a mailing list for future NPRMs should also request a copy of Advisory Circular No. 11-2A, which describes the procedures.

The Proposal

The FAA is considering an amendment to 14 CFR part 71 to establish Class D airspace area, a Class E surface area extension and amend the Class E surface area from full time to part time status at Garden City Regional Airport, Garden City, KS. An ATCT is being established at Garden City Regional Airport and Class D and Class E surface areas are necessary for the safe and efficient operation of aircraft in the vicinity of the airport. The areas will be depicted on appropriate aeronautical charts thereby enabling pilots to circumnavigate the area or otherwise comply with IFR procedures. Class D airspace areas designated for an airport that contain at least one primary airport around which the airspace is designated are published in paragraph 5000, Class E airspace areas designated as a surface area for an airport are published in paragraph 6002, and Class E airspace areas designated as an extension to Class D airspace areas are published in paragraph 6004 of FAA Order 7400.9G, dated September 10, 1999, and effective September 16, 1999, which is incorporated by reference in 14 CFR 71.1. The airspace designations listed in this document would be published subsequently in the Order.

The FAA has determined that this proposed regulation only involves an established body of technical regulations for which frequent and routine amendments are necessary to keep them operationally current. Therefore, this proposed regulation (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule will not have a significant economic impact on a substantial number of small entities under the criteria of the Regulatory Flexibility Act.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9G, Airspace Designations and Reporting Points, dated September 10, 1999, and effective September 16, 1999, is amended as follows:

Paragraph 5000 Class D airspace area designated for an airport that contains at least one primary airport around which the airspace is designated.

* * * * *

ACE KS D Garden City, KS [New]

Garden City Regional Airport, KS

(Lat. 37°55′39″N., long. 100°43′28″W.)

Garden City VORTAC

(Lat. 37°55′09″N., long. 100°43′30″W.)

That airspace extending upward from the surface to and including 5400 feet MSL within a 4.3-mile radius of the Garden City Regional Airport. This Class D airspace area is effective during the specific dates and times established in advance by a Notice to Airmen. The effective date and time will thereafter be continuously published in the Airport/Facility Directory.

* * * * *

Paragraph 6002 Class E airspace area designated as a surface area for an airport.

* * * * *

ACE KS E2 Garden City, KS [Revised]

Garden City Regional Airport, KS

(Lat. 37°55′39″N., long. 100°43′28″W.)

Garden City VORTAC

(Lat. 37°55′09″N., long. 100°43′30″W.)

That airspace within a 4.3-mile radius of the Garden City Regional Airport and within 2.2 miles each side of the Garden City VORTAC 004° radial extending from the 4.3-mile radius of the Garden City Regional Airport to 7 miles north of the VORTAC and within 2.2 miles each side of the Garden City VORTAC 171° radial extending from the 4.3-mile radius of the Garden City Regional Airport to 5 miles south of the VORTAC. This Class E airspace area is effective during the specific dates and times established in advance by a Notice to Airmen. The effective date and time will thereafter be continuously published in the Airport/Facility Directory.

* * * * *

Paragraph 6004 Class E airspace area designated as an extension to a Class D airspace area.

* * * * *

ACE KS E2 Garden City, KS [New]

Garden City Regional Airport, KS

(Lat. 37°55′39″N., long. 100°43′28″W.)

Garden City VORTAC

(Lat. 37°55′09″N., long. 100°43′30″W.)

That airspace extending upward within 2.2 miles each side of the Garden City VORTAC 004° radial extending from the 4.3-mile radius of the Garden City Regional Airport to 7 miles north of the VORTAC and within 2.2 miles each side of the Garden City VORTAC 171° radial extending from the 4.3-mile radius of the Garden City Regional Airport to 5 miles south of the VORTAC. This Class E airspace area is effective during the specific dates and times established in advance by a Notice to Airmen. The effective date and time will thereafter be continuously published in the Airport/Facility Directory.

* * * * *

Issued in Kansas City, MO, on July 27, 2000.
Herman J. Lyons, Jr.,
Manager, Air Traffic Division, Central Region.

[FR Doc. 00-20166 Filed 8-8-00; 8:45 am]

BILLING CODE 4910-13-M